DEPARTMENT OF COMMERCE

International Trade Administration

[C-523-816, C-489-845]

Certain Aluminum Foil From the Sultanate of Oman and the Republic of Turkey: Postponement of Preliminary Determinations in the Countervailing Duty Investigations

AGENCY: Enforcement and Compliance, International Trade Administration, Department of Commerce.

DATES: Applicable December 3, 2020.

FOR FURTHER INFORMATION CONTACT: John Conniff, AD/CVD Operations, Office III (Sultanate of Oman); and Eliza Siordia, AD/CVD Operations, Office V (Republic of Turkey); Enforcement and Compliance, International Trade Administration, U.S. Department of Commerce, 1401 Constitution Avenue NW, Washington, DC 20230; telephone: (202) 482-1009 and (202) 482-3878, respectively.

SUPPLEMENTARY INFORMATION:

Background

On October 19, 2020, the Department of Commerce (Commerce) initiated the countervailing duty (CVD) investigations of certain aluminum foil from the Sultanate of Oman and the Republic of Turkey.¹ Currently, the preliminary determinations are due no later than December 23, 2020.

¹ See Certain Aluminum Foil from the Sultanate of Oman and the Republic of Turkey: Initiation of Countervailing Duty Investigations, 85 FR 68287 (October 28, 2020).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reason for the request. Commerce will grant the request unless it finds compelling reasons to deny the request.²

² See 19 CFR 351.205(e).

On November 23, 2020, the petitioners ³ in these investigations submitted a timely request that Commerce postpone the preliminary CVD determinations.⁴ According to the petitioners, additional time is necessary to allow Commerce to “analyze fully the questionnaire responses, request any necessary clarifications and determine the extent to which countervailable subsidies have benefited the respondents in the preliminary phase of these proceedings.” ⁵ Consistent with 19 CFR 351.205(e), the petitioners stated the reasons for requesting a postponement of the preliminary determinations, and Commerce finds no compelling reason to deny the request. Therefore, in accordance with section 703(c)(1)(A) of the Act, Commerce is postponing the deadline for the preliminary determinations to no later than 130 days after the date on which this investigation was initiated, i.e., February 26, 2021. Pursuant to section 705(a)(1) of the Act and 19 CFR 351.210(b)(1), the deadline for the final determinations of these investigations will continue to be 75 days after the date of the preliminary determinations, unless postponed at a later date.

³ The petitioners consist of the Aluminum Association Trade Enforcement Working Group and its individual members: Gränges Americas Inc., JW Aluminum Company, and Novelis Corporation.

⁴ See Petitioners' Letter, “Countervailing Duty Investigations Concerning Certain Aluminum Foil from the Sultanate of Oman and the Republic of Turkey—Petitioners' Request to Postpone Preliminary Determinations,” dated November 23, 2020.

⁵ Id. at 2.

Notification to Interested Parties

This notice is issued and published pursuant to section 703(c)(2) of the Act and 19 CFR 351.205(f)(1).

Dated: November 27, 2020.
Jeffrey I. Kessler,
Assistant Secretary for Enforcement and Compliance.

[FR Doc. 2020-26623 Filed 12-2-20; 8:45 am]

BILLING CODE 3510-DS-P